DEPARTMENT OF HEALTH AND HUMAN SERVICES

Centers for Medicare & Medicaid Services

[CMS-2316-N]

DEPARTMENT OF LABOR

Employee Benefits Security Administration

Medicaid and CHIP Programs; Meeting of the CHIP Working Group—June 14, 2010

AGENCY: Centers for Medicare & Medicaid Services (CMS), Department of Health and Human Services (DHHS); Employee Benefits Security Administration (EBSA), Department of Labor (DOL).

ACTION: Notice.

SUMMARY: This notice announces the second meeting of the Medicaid, Children's Health Insurance Program (“CHIP”), and Employer-Sponsored Coverage Coordination Working Group (referred to as the “CHIP Working Group”). The CHIP Working Group will meet to address objectives specified under section 311(b)(1)(C) of the Children's Health Insurance Program Reauthorization Act of 2009. This meeting is open to the public.

DATES: Meeting Date: Monday, June 14, 2010 from 9 a.m. to 5 p.m., Eastern Standard Time (e.s.t.).

Deadline for Registration without Oral Presentation: June 12, 2010, 12 p.m., e.s.t.

Deadline for Registration of Oral Presentations: June 10, 2010, 12 p.m., e.s.t.

Deadline for Submission of Oral Remarks and Written Comments: June 10, 2010, 12 p.m., e.s.t.

Deadline for Requesting Special Accommodations: June 10, 2010, 12 p.m., e.s.t.

ADDRESSES: Meeting Location: The meeting will be held at the Grand Hyatt Washington, 1000 H Street NW., Washington, DC 20001.

Submission of Testimony: Testimonies should be mailed to Stacey Green, Designated Federal Official (DFO), Centers for Medicare & Medicaid Services, 7500 Security Boulevard, Mail stop C2-04-04, Baltimore, MD 21244-1850, or contact the DFO via e-mail at stacey.green@cms.hhs.gov.

FOR FURTHER INFORMATION CONTACT: Stacey Green, DFO, Centers for Medicare & Medicaid Services, Health and Human Services at (410) 786-6102, or Amy Turner, Employee Benefits Security Administration, DOL at (202) 693-8335. News media representatives must contact the CMS Press Office, (202) 690-6145. Please refer to the Internet at http://www.cms.hhs.gov/FACA, or http://www.dol.gov/ebsa/CHIP.html for additional information and updates on committee activities.

SUPPLEMENTARY INFORMATION:

I. Background

In accordance with section 10(a) of the Federal Advisory Committee Act (FACA), this notice announces the second meeting of the Medicaid, CHIP, and Employer-Sponsored Coverage Coordination Working Group (“CHIP Working Group”). The Secretary of Health and Human Services and the Secretary of Labor are required under section 311(b)(1)(C) of the Children's Health Insurance Program Reauthorization Act (CHIPRA) of 2009 (Pub. L. 111-3), enacted February 4, 2009, to jointly establish a CHIP Working Group. The membership of the group is based on nominations submitted in response to a Federal Register solicitation notice published on May 1, 2009 (74 FR 20323). The CHIP Working Group will meet two times to develop a model coverage coordination disclosure form for group health plan administrators to send to States upon request regarding benefits available under the plan. This notice will enable States to determine the availability and cost-effectiveness of providing premium assistance to individuals eligible for benefits under titles XIX or XXI of the Social Security Act (the Act) to enable them to enroll in group health plans. The CHIP Working Group will identify and report on the impediments to the effective coordination of coverage available to families that include employees of employers that maintain group health plans and members who are eligible for medical assistance under title XIX of the Act or child health assistance or other health benefits coverage under title XXI of the Act.

Not later than August 5, 2010, the CHIP Working Group must submit to the Secretary of Labor and the Secretary of Health and Human Services the model coverage coordination disclosure form and the report containing recommendations for appropriate measures for addressing the impediments to the effective coordination of coverage.

II. Meeting Format and Agenda

The meeting will commence with welcoming remarks from the CHIP Working Group by Departmental representatives. In addition, the agenda will focus on the following:

• Introductions from Chair and Co-Chair.

• Review of the draft model coverage coordination disclosure form for plan administrators of group health plans. The draft form is available for members of the public to review at http://www.dol.gov/ebsa/CHIP.html. To submit written comments, follow the instructions listed in the ADDRESSES section of this notice.

• Review of report containing recommendations for appropriate measures for addressing the impediments to the effective coordination of coverage between group health plans and title XIX and XXI State plans.

• An opportunity for public comment and testimony.

For additional information and clarification on these topics, contact the DFO as provided in the FOR FURTHER INFORMATION CONTACT section of this notice. Individual or organizational stakeholders that represent the focus area of the CHIP Working Group wishing to present a 5-minute oral testimony on agenda issues must register with the DFO by the date listed in the DATES section of this notice. Testimony is limited to agenda topics only. The number of oral testimonies may be limited by the time available. A written copy of the presenter's oral remarks must be submitted to the DFO for distribution to CHIP Working Group members for review before the meeting by the date listed in the “DATES” section of this notice.

III. Meeting Registration and Security Information

The meeting is open to the public, but attendance is limited to the space available. Persons wishing to attend this meeting must register by contacting the DFO at the address listed in the ADDRESSES section of this notice or by telephone at the number listed in the FOR FURTHER INFORMATION CONTACT section of this notice by the date specified in the DATES section of this notice.

Individuals requiring sign language interpretation or other special accommodations must contact the DFO via the contact information specified in the FOR FURTHER INFORMATION CONTACT section of this notice by the date listed in the DATES section of this notice.

Authority: (Section 1868 of the Social Security Act (42 U.S.C. 1395ee) and section 10(a) of Pub. L. 92-463 (5 U.S.C. App. 2, section 10(a)).)

Dated: May 21, 2010.
Marilyn Tavenner,
Acting Administrator and Chief Operating Officer, Centers for Medicare & Medicaid Services.
Dated: May 21, 2010.
Michael L. Davis
Deputy Assistant Secretary, Employee Benefits Security Administration, Department of Labor.

[FR Doc. 2010-12952 Filed 5-27-10; 8:45 am]

BILLING CODE 4120-01-P-4510-29-P